DEPARTMENT OF COMMERCE

Bureau of Economic Analysis

Proposal To Collect Information on the Initial Report on a Foreign Person's Direct or Indirect Acquisition, Establishment, or Purchase of a U.S. Business Enterprise

ACTION: Proposed collection; comment request.

SUMMARY: The Department of Commerce, as part of its continuing effort to reduce paperwork and respondent burden, invites the general public and other Federal agencies to comment on proposed and/or continuing information collections, as required by the Paperwork Reduction Act of 1995, Public Law 104-13 (44 U.S.C. 3506(c)(2)(A)).

DATES: Written comments must be submitted on or before August 21, 2000.

ADDRESSES: Direct all written comments to Linda Engelmeier, Departmental Forms Clearance Officer, Department of Commerce, Room 6086, 14th and Constitution Avenue, NW, Washington, DC 20230.

FOR FURTHER INFORMATION CONTACT: Requests for additional information or copies of the information collection instruments and instructions should be directed to: R. David Belli, U.S. Department of Commerce, Bureau of Economic Analysis, BE-50(OC), Washington, DC 20230 (Telephone: 202-606-9800).

SUPPLEMENTARY INFORMATION:

I. Abstract

The Initial Report on a Foreign Person's Direct or Indirect Acquisition, Establishment, or Purchase of the Operating Assets, of a U.S. Business Enterprise, Including Real Estate (Form BE-13) and the Report by a U.S. Person Who Assists or Intervenes in the Acquisition of a U.S. Business Enterprise by, or Who Enters Into a Joint Venture with, a Foreign Person (Form BE-14) obtain initial data on new foreign direct investment in the United States. The survey collects identification information on, and limited financial and operating data for, the U.S. entity being established or acquired and identification information on the new foreign owner. The data are needed to measure the amount of new foreign direct investment in the United States, monitor changes in such investment, assess its impact on the U.S. economy, and based upon this assessment, make informed policy decisions regarding foreign direct investment in the United States.

The survey is being revised to add an item to the BE-13 Supplement C-Exemption Claim, to collect the industry of the affiliate for which the Claim is filed. This industry code will be based on the new North American Industry Classification System (NAICS), which was recently adopted for use on the BE-13 survey. The proposed change will enhance the quality of the published data by providing information on the industries in which to classify the operations of exempt affiliates; however, it will not have a material effect on the average burden imposed on respondents. No other revisions are being proposed to the BE-13 or the BE-14 at this time.

II. Method of Collection

The BE-13 survey must be filed by every U.S. business with over $3 million of assets or 200 or more acres of U.S. land that is acquired to the extent of 10 percent or more, or is established, by a foreign investor. A BE-13 Supplement C-Exemption Claim must be filed for transactions that do not meet either of the reporting thresholds. The BE-13 is a one-time report that must be filed within 45 days of the acquisition or establishment. The BE-14 is filed by a person who assists in a covered investment transaction, such as a real estate broker or attorney, or who enters into a U.S. joint venture with a foreign person. Its purpose is to provide BEA with the name and address of the newly established or acquired U.S. company, so that a BE-13 form can be mailed to it for completion.

III. Data

OMB Number: 0608-0035.

Form Number: BE-13/BE-14.

Type of Review: Regular submission.

Affected Public: Business or other for-profit.

Estimated Number of Responses: 1,200 annually.

Estimated Time Per Response: 1½ hours.

Estimated Total Annual Burden: 1,800 hours.

Estimated Total Annual Cost: $54,000 (based on an estimated reporting burden of 1,800 hours and an estimated hourly cost of $30).

IV. Request for Comments

Comments are invited on: (a) Whether the proposed collection of information is necessary for the proper performance of the functions of the agency, including whether the information has practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: June 16, 2000.
Madeleine Clayton,
Management Analyst, Office of the Chief Information Officer.

[FR Doc. 00-15739 Filed 6-21-00; 8:45 am]

BILLING CODE 3510-06-M